ENVIRONMENTAL PROTECTION AGENCY

[EPA-HQ-OPP-2008-0545; FRL-8375-9]

Pesticides; Revised Fee Schedule for Registration Applications

AGENCY: Environmental Protection Agency (EPA).

ACTION: Notice.

SUMMARY: EPA is publishing a revised list of pesticide registration service fees applicable to specified pesticide applications and tolerance actions. Under the Pesticide Registration Improvement Renewal Act, the registration service fees for covered pesticide registration applications received on or after October 1, 2008, increase by 5% rounding up to the nearest dollar from the fees published for fiscal year 2008, and certain decision review periods have been reduced. The new fees and decision review periods become effective on October 1, 2008.

FOR FURTHER INFORMATION CONTACT: Elizabeth Leovey (7501P), Immediate Office, Office of Pesticide Programs, Environmental Protection Agency, 1200 Pennsylvania Ave., NW., Washington, DC 20460-0001; telephone number: (703) 305-7328; fax number: (703) 308-4776; e-mail address: leovey.elizabeth@epa.gov.

SUPPLEMENTARY INFORMATION:

I. General Information

A. Does this Action Apply to Me?

You may be potentially affected by this action if you register pesticide products under the Federal Insecticide, Fungicide, and Rodenticide Act (FIFRA). Potentially affected entities may include, but are not limited to:

• Agricultural pesticide manufacturers (32532).

• Antimicrobial pesticide manufacturers (32561).

• Antifoulant pesticide manufacturers (32551).

• Wood preservative manufacturers (32519).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in the notice and in FIFRA section 33. If you have any questions regarding the applicability of this action to a particular entity, consult the person listed under FOR FURTHER INFORMATION CONTACT.

B. How Can I Get Copies of this Document and Other Related Information?

1. Docket. EPA has established a docket for this action under docket identification (ID) number EPA-HQ-OPP-2008-[0545]. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. What Action is the Agency Taking?

The Pesticide Registration Improvement Act of 2003 established a new section 33 of FIFRA creating a registration service fee system for certain types of pesticide applications, establishment of tolerances, and certain other regulatory decisions under FIFRA and the Federal Food, Drug, and Cosmetic Act (FFDCA). Section 33 also created a schedule of decision review times for applications covered by the service fee system. The Agency began administering the registration service fee system for covered applications received on or after March 23, 2004.

On October 9, 2007, the Pesticide Registration Improvement Renewal Act was signed by the President, revising, among other things, FIFRA section 33. The new law reauthorized the service fee system through 2012 and established fees and review times for applications received during fiscal years 2008 through 2012. As required by section 33(b)(6)(A) of FIFRA, the registration service fees for covered pesticide registration applications received on or after October 1, 2008, increase by five percent rounding up to the nearest dollar from the fees published in the October 30, 2007, Federal Register Notice (72 FR 61466). In addition, this notice provides shorter decision review periods for certain application categories.

B. What is the Agency's Authority for Taking this Action?

The publication of this fee schedule is required by section 33(b)(6)(C) of FIFRA as amended.

III. Elements of the Fee Schedule

This unit explains how EPA has organized the fee schedule identified in the statute and how to read the fee schedule tables, and includes a key to terminology published with the table in the Congressional Review. EPA's organization and presentation of the fee schedule information does not affect the categories of registration service fees or the structure or procedures for submitting applications or petitions for tolerance.

A. The Congressional Record Fee Schedule

The fee schedule published in the Congressional Record of July 21, 2007 identifies the registration service fees and decision times and is organized according to the organizational units of the Office of Pesticide Programs (OPP) within EPA. Thereafter, the categories within the organizational unit sections of the table are further categorized according to the type of application being submitted, the use patterns involved, or, in some cases, upon the type of pesticide that is the subject of the application. The fee categories differ by Division. Not all application types are covered by, or subject to, the fee system.

B. Fee Schedule and Decision Review Times

In today's notice, EPA has retained the format of previous schedule notices and included the corrections to the schedule published in the September 24, 2007 issue of the Congressional Record. The schedules are presented as 11 tables, organized by OPP Division and by type of application or pesticide subject to the fee. These tables only list the decision time review periods for fiscal years 2009 and 2010 as these are the only applicable review periods for applications received on or after October 1, 2008. Unit IV. presents fee tables for the Registration Division (RD) (5 tables), the Antimicrobials Division (AD) (3 tables), and the Biopesticides and Pollution Prevention Division (BPPD) (3 tables).

C. How to Read the Tables

1. Each table consists of the following columns:

• The column entitled “EPA No.” assigns an EPA identifier to each fee category. There are 140 categories spread across the 3 Divisions. There are 58 RD categories, 27 AD categories, and 55 BPPD categories. For tracking purposes, OPP has assigned a 3-digit identifier to each category, beginning with RD categories, followed by AD and BPPD categories. The categories are prefaced with a letter designation indicating which Division of OPP is responsible for applications in that category (R= Registration Division, A=Antimicrobials Division, B=Biopesticides and Pollution Prevention Division).

• The column entitled “CR No.” cross-references the current Congressional Record category number for convenience. However, EPA will be using the categories as numbered in the “EPA No.” column in its tracking systems.

• The column entitled “Action” describes the categories of action. In establishing the expanded fee schedule categories, Congress eliminated some of the more confusing terminology of the original categories. For example, instead of the term “fast-track,” the schedule in the Congressional Record uses the regulatory phrase “identical or substantially similar in composition and use to a registered product.”

• The column entitled “Decision Time” lists the decision times in months for each type of action for Fiscal Years 2009 and 2010. The 2010 decision times apply to 2011 and 2012. The decision review periods in the tables are based upon EPA fiscal years (FY), which run from October 1 through September 30.

• The column entitled “FY 09/FY 10 Registration Service Fee ($)” lists the registration service fee for the action for fiscal year 2009 (October 1, 2008 through September 30, 2009) and fiscal year 2010 (October 1, 2009 through September 30, 2010).

2. The following acronyms are used in some of the tables:

• DART-Dose Adequacy Response Team

• DNT-Developmental Neurotoxicity

• HSRB-Human Studies Review Board

• GW/SW-Ground Water/Surface Water

• PHI-Pre-Harvest Interval

• PPE-Personal Protective Equipment

• REI-Restricted Entry Interval

• SAP-FIFRA Scientific Advisory Panel

IV. PRIRA Fee Schedule Tables—Effective October 1, 2008

A. Registration Division (RD)

The Registration Division of OPP is responsible for the processing of pesticide applications and associated tolerance petitions for pesticides that are termed “conventional chemicals,” excluding pesticides intended for antimicrobial uses. The term “conventional chemical” is a term of art that is intended to distinguish synthetic chemicals from those that are of naturally occurring or non-synthetic origin, synthetic chemicals that are identical to naturally-occurring chemicals and microbial pesticides. Tables 1 through 5 of Unit IV.A. cover RD actions.

Table 1.—Registration Division—New Active Ingredients
EPA No. | CR No. | Action | Decision time (months): FY 09 | Decision time (months): FY 10 | FY 09/FY 10 Registration Service Fee ($)
R010 | 1 | Food use¹ | 24 | 24 | 542,115
R020 | 2 | Food use; reduced risk¹ | 18 | 18 | 542,115
R030 | 3 | Food use; Experimental Use Permit application submitted simultaneously with application for registration; decision time for Experimental Use Permit and temporary tolerance same as #R040¹ | 24 | 24 | 599,235
R040 | 4 | Food use; Experimental Use Permit application; establish temporary tolerance; submitted before application for registration; credit $326,025 toward new active ingredient application that follows | 18 | 18 | 399,525
R050 | 5 | Food use; application submitted after Experimental Use Permit application; decision time begins after Experimental Use Permit and temporary tolerance are granted¹ | 14 | 14 | 199,815
R060 | 6 | Non-food use; outdoor¹ | 21 | 21 | 376,635
R070 | 7 | Non-food use; outdoor; reduced risk¹ | 16 | 16 | 376,635
R080 | 8 | Non-food use; outdoor; Experimental Use Permit application submitted simultaneously with application for registration; decision time for Experimental Use Permit same as #R090¹ | 21 | 21 | 416,640
R090 | 9 | Non-food use; outdoor; Experimental Use Permit application submitted before application for registration; credit $228,225 toward new active ingredient application that follows | 16 | 16 | 279,615
R100 | 10 | Non-food use; outdoor; submitted after Experimental Use Permit application; decision time begins after Experimental Use Permit is granted¹ | 12 | 12 | 137,025
R110 | 11 | Non-food use; indoor¹ | 20 | 20 | 209,475
R120 | 12 | Non-food use; indoor; reduced risk¹ | 14 | 14 | 209,475
R121 | 13 | Non-food use; indoor; Experimental Use Permit application submitted before application for registration; credit $100,000 toward new active ingredient application that follows | 18 | 18 | 157,500
R122 | 14 | Enriched isomer(s) of registered mixed-isomer active ingredient¹ | 18 | 18 | 273,945
R123 | 15 | Seed treatment only; includes non-food and food uses; limited uptake into Raw Agricultural Commodities¹ | 18 | 18 | 407,610
R124 | 16 | Conditional Ruling on Preapplication Study Waivers; applicant-initiated | 6 | 6 | 2,184
¹All uses (food and/or non-food) included in any original application or petition for a new active ingredient or a first food use that otherwise satisfy the conditions for the category are covered by the base fee for that application.

Table 2.—Registration Division—New Uses
EPA No. | CR No. | Action | Decision time (months): FY 09 | Decision time (months): FY 10 | FY 09/FY 10 Registration Service Fee ($)
R130 | 17 | First food use; indoor; food/food handling¹ | 21 | 21 | 165,375
R140 | 18 | Additional food use; indoor; food/food handling | 15 | 15 | 38,588
R150 | 19 | First food use¹ | 21 | 21 | 228,270
R160 | 20 | First food use; reduced risk¹ | 16 | 16 | 228,270
R170 | 21 | Additional food use | 15 | 15 | 57,120
R180 | 22 | Additional food use; reduced risk | 10 | 10 | 57,120
R190 | 23 | Additional food uses; 6 or more submitted in one application | 15 | 15 | 342,720
R200 | 24 | Additional food uses; 6 or more submitted in one application; reduced risk | 10 | 10 | 342,720
R210 | 25 | Additional food use; Experimental Use Permit application; establish temporary tolerance; no credit toward new use registration | 12 | 12 | 42,315
R220 | 26 | Additional food use; Experimental Use Permit application; crop destruct basis; no credit toward new use registration | 6 | 6 | 17,136
R230 | 27 | Additional use; non-food; outdoor | 15 | 15 | 22,827
R240 | 28 | Additional use; non-food; outdoor; reduced risk | 10 | 10 | 22,827
R250 | 29 | Additional use; non-food; outdoor; Experimental Use Permit application; no credit toward new use registration | 6 | 6 | 17,136
R260 | 30 | New use; non-food; indoor | 12 | 12 | 11,025
R270 | 31 | New use; non-food; indoor; reduced risk | 9 | 9 | 11,025
R271 | 32 | New use; non-food; indoor; Experimental Use Permit application; no credit toward new use registration | 6 | 6 | 8,400
R272 | 33 | Review of Study Protocol; applicant-initiated; excludes DART, pre-registration conferences, Rapid Response review, DNT protocol review, protocols needing HSRB review | 3 | 3 | 2,184
R273 | 34 | Additional use; seed treatment; limited uptake into Raw Agricultural Commodities; includes crops with established tolerances (e.g., for soil or foliar application); includes food or non-food uses | 12 | 12 | 43,575
R274 | 35 | Additional uses; seed treatment only; 6 or more submitted in one application; limited uptake into Raw Agricultural Commodities; includes crops with established tolerances (e.g., for soil or foliar application); includes food and/or non-food uses | 12 | 12 | 261,450
¹All uses (food and/or non-food) included in any original application or petition for a new active ingredient or a first food use that otherwise satisfy the conditions for the category are covered by the base fee for that application.

Table 3.—Registration Division—Import and Other Tolerances
EPA No. | CR No. | Action | Decision time (months): FY 09 | Decision time (months): FY 10 | FY 09/FY 10 Registration Service Fee ($)
R280 | 36 | Establish import tolerance; new active ingredient or first food use¹ | 21 | 21 | 275,625
R290 | 37 | Establish import tolerance; additional food use | 15 | 15 | 55,125
R291 | 38 | Establish import tolerances; additional food uses; 6 or more crops submitted in one petition | 15 | 15 | 330,750
R292 | 39 | Amend an established tolerance (e.g., decrease or increase); domestic or import; applicant-initiated | 10 | 10 | 39,165
R293 | 40 | Establish tolerance(s) for inadvertent residues in one crop; applicant-initiated | 12 | 12 | 46,200
R294 | 41 | Establish tolerances for inadvertent residues; 6 or more crops submitted in one application; applicant-initiated | 12 | 12 | 277,200
R295 | 42 | Establish tolerance(s) for residues in one rotational crop in response to a specific rotational crop application; applicant-initiated | 15 | 15 | 57,120
R296 | 43 | Establish tolerances for residues in rotational crops in response to a specific rotational crop petition; 6 or more crops submitted in one application; applicant-initiated | 15 | 15 | 342,720
¹All uses (food and/or non-food) included in any original application or petition for a new active ingredient or a first food use that otherwise satisfy the conditions for the category are covered by the base fee for that application.

Table 4.—Registration Division—New Products
EPA No. | CR No. | Action | Decision time (months): FY 09 | Decision time (months): FY 10 | FY 09/FY 10 Registration Service Fee ($)
R300 | 44 | New product; identical or substantially similar in composition and use to a registered product; no data review or only product chemistry data; cite-all data citation, or selective data citation where applicant owns all required data, or applicant submits specific authorization letter from data owner. Category also includes 100% re-package of registered end-use or manufacturing-use product that requires no data submission nor data matrix. | 3 | 3 | 1,365
R301 | 45 | New product; identical or substantially similar in composition and use to a registered product; registered source of active ingredient; selective data citation only for data on product chemistry and/or acute toxicity and/or public health pest efficacy, where applicant does not own all required data and does not have a specific authorization letter from data owner. | 4 | 4 | 1,638
R310 | 46 | New end-use or manufacturing-use product; requires review of data package within RD; includes reviews and/or waivers of data for only: • Product chemistry and/or • Acute toxicity and/or • Public health pest efficacy | 6 | 6 | 4,578
R311 | 49 | New product; requires approval of new food-use inert; applicant-initiated; excludes approval of safeners | 12 | 12 | 16,317
R312 | 50 | New product; requires approval of new non-food-use inert; applicant-initiated | 6 | 6 | 8,715
R313 | 51 | New product; requires amendment to existing inert tolerance exemption (e.g., adding post-harvest use); applicant-initiated | 10 | 10 | 11,991
R320 | 47 | New product; new physical form; requires data review in science divisions | 12 | 12 | 11,424
R330 | 48 | New manufacturing-use product; registered active ingredient; selective data citation | 12 | 12 | 17,136
R331 | 52 | New product; repack of identical registered end-use product as a manufacturing-use product; same registered uses only | 3 | 3 | 2,184
R332 | 53 | New manufacturing-use product; registered active ingredient; unregistered source of active ingredient; submission of completely new generic data package; registered uses only | 24 | 24 | 244,650

Table 5.—Registration Division—Amendments to Registration
EPA No. | CR No. | Action | Decision time (months): FY 09 | Decision time (months): FY 10 | FY 09/FY 10 Registration Service Fee ($)
R340 | 54 | Amendment requiring data review within RD (e.g., changes to precautionary label statements, or source changes to an unregistered source of active ingredient)¹ | 4 | 4 | 3,444
R350 | 55 | Amendment requiring data review in science divisions (e.g., changes to REI, or PPE, or PHI, or use rate, or number of applications; or add aerial application; or modify GW/SW advisory statement)¹ | 8 | 8 | 11,424
R370 | 56 | Cancer reassessment; applicant-initiated | 18 | 18 | 171,255
R371 | 57 | Amendment to Experimental Use Permit; requires data review/risk assessment | 6 | 6 | 8,715
R372 | 58 | Refined ecological and/or endangered species assessment; applicant-initiated | 18 | 12 | 163,065
¹EPA-initiated amendments shall not be charged fees. Fast-track amendments handled by the Antimicrobials Division are to be completed within the FIFRA stated timelines listed in section 3(h) and are not subject to PRIA fees. Label amendments submitted by notification under PR Notices, such as PR Notice 95-2 and PR Notice 98-10, continue under PR Notice timelines and are not subject to PRIA fees.

B. Antimicrobials Division (AD)

The Antimicrobials Division of OPP is responsible for the processing of pesticide applications and associated tolerances for conventional chemicals intended for antimicrobial uses, that is, uses that are defined under FIFRA section 2(mm)(1)(A), including products for use against bacteria, protozoa, non-agricultural fungi, and viruses. AD is also responsible for a selected set of conventional chemicals intended for other uses, including most wood preservatives and antifoulants. Tables 6 through 8 of Unit IV.B. cover AD actions.

Table 6.—Antimicrobials Division—New Active Ingredients
EPA No. | CR No. | Action | Decision time (months): FY 09 | Decision time (months): FY 10 | FY 09/FY 10 Registration Service Fee ($)
A380 | 59 | Food use; establish tolerance exemption¹ | 24 | 24 | 99,225
A390 | 60 | Food use; establish tolerance¹ | 24 | 24 | 165,375
A400 | 61 | Non-food use; outdoor; FIFRA section 2(mm) uses¹ | 18 | 18 | 82,688
A410 | 62 | Non-food use; outdoor; uses other than FIFRA section 2(mm)¹ | 21 | 21 | 165,375
A420 | 63 | Non-food use; indoor; FIFRA section 2(mm) uses¹ | 18 | 18 | 55,125
A430 | 64 | Non-food use; indoor; uses other than FIFRA section 2(mm)¹ | 20 | 20 | 82,688
A431 | 65 | Non-food use; indoor; low-risk and low-toxicity food-grade active ingredient(s); efficacy testing for public health claims required under GLP and following DIS/TSS or AD-approved study protocol | 12 | 12 | 57,750
¹All uses (food and/or non-food) included in any original application or petition for a new active ingredient or a first food use that otherwise satisfy the conditions for the category are covered by the base fee for that application.

Table 7.—Antimicrobials Division—New Uses
EPA No. | CR No. | Action | Decision time (months): FY 09 | Decision time (months): FY 10 | FY 09/FY 10 Registration Service Fee ($)
A440 | 66 | First food use; establish tolerance exemption¹ | 21 | 21 | 27,563
A450 | 67 | First food use; establish tolerance¹ | 21 | 21 | 82,688
A460 | 68 | Additional food use; establish tolerance exemption | 15 | 15 | 11,025
A470 | 69 | Additional food use; establish tolerance | 15 | 15 | 27,563
A480 | 70 | Additional use; non-food; outdoor; FIFRA section 2(mm) uses | 9 | 9 | 16,538
A490 | 71 | Additional use; non-food; outdoor; uses other than FIFRA section 2(mm) | 15 | 15 | 27,563
A500 | 72 | Additional use; non-food; indoor; FIFRA section 2(mm) uses | 9 | 9 | 11,025
A510 | 73 | Additional use; non-food; indoor; uses other than FIFRA section 2(mm) | 12 | 12 | 11,025
A520 | 74 | Experimental Use Permit application | 9 | 9 | 5,513
A521 | 75 | Review of public health efficacy study protocol within AD; per AD Internal Guidance for the Efficacy Protocol Review Process; applicant-initiated; Tier 1 | 4 | 3 | 2,100
A522 | 76 | Review of public health efficacy study protocol outside AD by members of AD Efficacy Protocol Review Expert Panel; applicant-initiated; Tier 2 | 15 | 12 | 10,500
¹All uses (food and/or non-food) included in any original application or petition for a new active ingredient or a first food use that otherwise satisfy the conditions for the category are covered by the base fee for that application.

Table 8.—Antimicrobials Division—New Products and Amendments
EPA No. | CR No. | Action | Decision time (months): FY 09 | Decision time (months): FY 10 | FY 09/FY 10 Registration Service Fee ($)
A530 | 77 | New product; identical or substantially similar in composition and use to a registered product; no data review or only product chemistry data; cite-all data citation, or selective data citation where applicant owns all required data, or applicant submits specific authorization letter from data owner. Category also includes 100% re-package of registered end-use or manufacturing-use product that requires no data submission nor data matrix. | 3 | 3 | 1,103
A531 | 78 | New product; identical or substantially similar in composition and use to a registered product; registered source of active ingredient; selective data citation only for data on product chemistry and/or acute toxicity and/or public health pest efficacy, where applicant does not own all required data and does not have a specific authorization letter from data owner | 4 | 4 | 1,575
A532 | 85 | New product; identical or substantially similar in composition and use to a registered product; registered active ingredient; unregistered source of active ingredient; cite-all data citation except for product chemistry; product chemistry data submitted | 4 | 4 | 4,410
A540 | 79 | New end-use product; FIFRA section 2(mm) uses only | 4 | 4 | 4,410
A550 | 80 | New end-use product; uses other than FIFRA section 2(mm); non-FQPA product | 6 | 6 | 4,410
A560 | 81 | New manufacturing-use product; registered active ingredient; selective data citation | 12 | 12 | 16,538
A570 | 82 | Label amendment requiring data submission¹ | 4 | 4 | 3,308
A571 | 83 | Cancer reassessment; applicant-initiated | 18 | 18 | 82,688
A572 | 84 | Refined ecological risk and/or endangered species assessment; applicant-initiated | 18 | 12 | 78,750
¹EPA-initiated amendments shall not be charged fees. Fast-track amendments handled by the Antimicrobials Division are to be completed within the FIFRA stated timelines listed in section 3(h) and are not subject to PRIA fees. Label amendments submitted by notification under PR Notices, such as PR Notice 95-2 and PR Notice 98-10, continue under PR Notice timelines and are not subject to PRIA fees.

C. Biopesticides and Pollution Prevention Division (BPPD)

The Biopesticides and Pollution Prevention Division of OPP is responsible for the processing of pesticide applications for biochemical pesticides, microbial pesticides, and plant-incorporated protectants (PIPs).

The fee tables for BPPD tables are presented by type of pesticide rather than by type of action: Microbial and biochemical pesticides, straight chain lepidopteran pheromones (SCLPs), and PIPs. Within each table, the types of application are the same as those in other divisions and use the same terminology as in Unit III. Tables 9 through 11 of Unit IV.C. cover BPPD actions.

Table 9.—Biopesticides and Pollution Prevention Division—Microbial and Biochemical Pesticides; New Products and Amendments
EPA No. | CR No. | Action | Decision time (months): FY 09 | Decision time (months): FY 10 | FY 09/FY 10 Registration Service Fee ($)
B580 | 86 | New active ingredient; food use; establish tolerance¹ | 18 | 18 | 44,100
B590 | 87 | New active ingredient; food use; establish tolerance exemption¹ | 16 | 16 | 27,563
B600 | 88 | New active ingredient; non-food use¹ | 12 | 12 | 16,538
B610 | 89 | Food use; Experimental Use Permit application; establish temporary tolerance exemption | 9 | 9 | 11,025
B620 | 90 | Non-food use; Experimental Use Permit application | 6 | 6 | 5,513
B621 | 91 | Extend or amend Experimental Use Permit | 6 | 6 | 4,410
B630 | 92 | First food use; establish tolerance exemption | 12 | 12 | 11,025
B631 | 93 | Amend established tolerance exemption | 9 | 9 | 11,025
B640 | 94 | First food use; establish tolerance¹ | 18 | 18 | 16,538
B641 | 95 | Amend established tolerance (e.g., decrease or increase) | 12 | 12 | 11,025
B650 | 96 | New use; non-food | 6 | 6 | 5,513
B660 | 97 | New product; identical or substantially similar in composition and use to a registered product; no data review or only product chemistry data; cite-all data citation, or selective data citation where applicant owns all required data, or applicant submits specific authorization letter from data owner. Category also includes 100% re-package of registered end-use or manufacturing-use product that requires no data submission nor data matrix. | 3 | 3 | 1,103
B670 | 98 | New product; registered source of active ingredient; all Tier I data for product chemistry, toxicology, non-target organisms, and product performance must be addressed with product-specific data or with request for data waivers supported by scientific rationales | 6 | 6 | 4,410
B671 | 99 | New product; food use; unregistered source of active ingredient; requires amendment of established tolerance or tolerance exemption; all Tier I data requirements for product chemistry, toxicology, non-target organisms, and product performance must be addressed with product-specific data or with request for data waivers supported by scientific rationales | 16 | 16 | 11,025
B672 | 100 | New product; non-food use or food use having established tolerance or tolerance exemption; unregistered source of active ingredient; no data compensation issues; all Tier I data requirements for product chemistry, toxicology, non-target organisms, and product performance must be addressed with product-specific data or with request for data waivers supported by scientific rationales | 12 | 12 | 7,875
B680 | 101 | Label amendment requiring data submission² | 4 | 4 | 4,410
B681 | 102 | Label amendment; unregistered source of active ingredient; supporting data require scientific review | 6 | 6 | 5,250
B682 | 103 | Protocol review; applicant-initiated; excludes time for HSRB review (pre-application) | 3 | 3 | 2,100
¹All uses (food and/or non-food) included in any original application or petition for a new active ingredient or a first food use that otherwise satisfy the conditions for the category are covered by the base fee for that application.
²EPA-initiated amendments shall not be charged fees. Fast-track amendments handled by the Antimicrobials Division are to be completed within the FIFRA stated timelines listed in section 3(h) and are not subject to PRIA fees. Label amendments submitted by notification under PR Notices, such as PR Notice 95-2 and PR Notice 98-10, continue under PR Notice timelines and are not subject to PRIA fees.

Table 10.—Biopesticides and Pollution Prevention Division—Straight Chain Lepidopteran Pheromones (SCLPS)
EPA No. | CR No. | Action | Decision time (months): FY 09 | Decision time (months): FY 10 | FY 09/FY 10 Registration Service Fee ($)
B690 | 104 | New active ingredient; food or non-food use¹ | 6 | 6 | 2,205
B700 | 105 | Experimental Use Permit application; new active ingredient or new use | 6 | 6 | 1,103
B701 | 106 | Extend or amend Experimental Use Permit | 3 | 3 | 1,103
B710 | 107 | New product; identical or substantially similar in composition and use to a registered product; no data review or only product chemistry data; cite-all data citation, or selective data citation where applicant owns all required data, or applicant submits specific authorization letter from data owner. Category also includes 100% re-package of registered end-use or manufacturing-use product that requires no data submission nor data matrix. | 3 | 3 | 1,103
B720 | 108 | New product; registered source of active ingredient; all Tier I data for product chemistry, toxicology, non-target organisms, and product performance must be addressed with product specific data or with request for data waivers supported by scientific rationales | 4 | 4 | 1,103
B721 | 109 | New product; unregistered source of active ingredient | 6 | 6 | 2,310
B722 | 110 | New use and/or amendment to tolerance or tolerance exemption | 6 | 6 | 2,310
B730 | 111 | Label amendment requiring data submission² | 4 | 4 | 1,103
¹All uses (food and/or non-food) included in any original application or petition for a new active ingredient or a first food use that otherwise satisfy the conditions for the category are covered by the base fee for that application.
²EPA-initiated amendments shall not be charged fees. Fast-track amendments handled by the Antimicrobials Division are to be completed within the FIFRA stated timelines listed in section 3(h) and are not subject to PRIA fees. Label amendments submitted by notification under PR Notices, such as PR Notice 95-2 and PR Notice 98-10, continue under PR Notice timelines and are not subject to PRIA fees.

Table 11.—Biopesticide and Pollution Prevention Division—Plant Incorporated Protectants (PIPS)
EPA No. | CR No. | Action | Decision time (months): FY 09 | Decision time (months): FY 10 | FY 09/FY 10 Registration Service Fee ($)
B740 | 112 | Experimental Use Permit application; registered active ingredient; non-food/feed or crop destruct basis; no SAP review required¹ | 6 | 6 | 82,688
B750 | 113 | Experimental Use Permit application; registered active ingredient; establish temporary tolerance or tolerance exemption; no SAP review required¹ | 9 | 9 | 110,250
B760 | 114 | Experimental Use Permit application; new active ingredient; non-food/feed or crop destruct basis; SAP review required; credit $78,750 toward new active ingredient application that follows | 12 | 12 | 137,813
B761 | 115 | Experimental Use Permit application; new active ingredient; non-food/feed or crop destruct; no SAP review required; credit $78,750 toward new active ingredient application that follows | 7 | 7 | 82,688
B770 | 116 | Experimental Use Permit application; new active ingredient; establish temporary tolerance or tolerance exemption; SAP review required; credit $105,000 toward new active ingredient application that follows | 15 | 15 | 165,375
B771 | 117 | Experimental Use Permit application; new active ingredient; establish temporary tolerance or tolerance exemption; no SAP review required; credit $105,000 toward new active ingredient application that follows | 10 | 10 | 110,250
B772 | 118 | Amend or extend Experimental Use Permit; minor changes to experimental design; established temporary tolerance or tolerance exemption is unaffected | 3 | 3 | 11,025
B773 | 119 | Amend or extend existing Experimental Use Permit; minor changes to experimental design; extend established temporary tolerance or tolerance exemption | 5 | 5 | 27,563
B860 | 120 | Amend Experimental Use Permit; first food use or major revision of experimental design | 6 | 6 | 11,025
B780 | 121 | New active ingredient; non-food/feed; no SAP review required² | 12 | 12 | 137,813
B790 | 122 | New active ingredient; Non-food/feed; SAP review required² | 18 | 18 | 192,938
B800 | 123 | New active ingredient; establish permanent tolerance or tolerance exemption based on temporary tolerance or tolerance exemption; no SAP review required² | 12 | 12 | 220,500
B810 | 124 | New active ingredient; establish permanent tolerance or tolerance exemption based on temporary tolerance or tolerance exemption; SAP review required² | 18 | 18 | 275,625
B820 | 125 | New active ingredient; establish tolerance or tolerance exemption; no SAP review required² | 15 | 15 | 275,625
B840 | 126 | New active ingredient; establish tolerance or tolerance exemption; SAP review required² | 21 | 21 | 330,750
B830 | 127 | New active ingredient; Experimental Use Permit application submitted simultaneously; establish tolerance or tolerance exemption; no SAP review required² | 15 | 15 | 330,750
B850 | 128 | New active ingredient; Experimental Use Permit requested simultaneously; establish tolerance or tolerance exemption; SAP review required² | 21 | 21 | 385,875
B851 | 129 | New active ingredient; different genetic event of a previously approved active ingredient; same crop; no tolerance action required; no SAP review required | 9 | 9 | 110,250
B852 | 130 | New active ingredient; different genetic event of a previously approved active ingredient; same crop; no tolerance action required; SAP review required | 9 | 9 | 165,375
B870 | 131 | New use¹ | 9 | 9 | 33,075
B880 | 132 | New product; no SAP review required³ | 9 | 9 | 27,563
B881 | 133 | New product; SAP review required³ | 15 | 15 | 82,688
B890 | 134 | Amendment; seed production to commercial registration; no SAP review required | 9 | 9 | 55,125
B891 | 135 | Amendment; seed production to commercial registration; SAP review required | 15 | 15 | 110,250
B900 | 136 | Amendment (except #B890); no SAP review required; (e.g., new IRM requirements that are applicant-initiated; or amending a conditional registration to extend the registration expiration date with additional data submitted) ⁴ | 6 | 6 | 11,025
B901 | 137 | Amendment (except #B890); SAP review required⁴ | 12 | 12 | 66,150
B902 | 138 | PIP protocol review | 3 | 3 | 5,513
B903 | 139 | Inert ingredient tolerance exemption; e.g., a marker such as NPT II; reviewed in BPPD | 6 | 6 | 55,125
B904 | 140 | Import tolerance or tolerance exemption; processed commodities/food only | 9 | 9 | 110,250
¹Example: Transfer existing PIP trait by traditional breeding, such as from field corn to sweet corn.
²May be either a registration for seed increase or a full commercial registration. If a seed increase registration is granted first, full commercial registration is obtained using B890.
³Example: Stacking PIP traits within a crop using traditional breeding techniques.
⁴EPA-initiated amendments shall not be charged fees. Fast-track amendments handled by the Antimicrobials Division are to be completed within the FIFRA stated timelines listed in section 3(h) and are not subject to PRIA fees. Label amendments submitted by notification under PR Notices, such as PR Notice 95-2 and PR Notice 98-10, continue under PR Notice timelines and are not subject to PRIA fees.

V. How to Pay Fees

Applicants must submit fee payments at the time of application, and EPA will reject any application that does not contain evidence that the fee has been paid. EPA has developed a web site at http://www.epa.gov/pesticides/fees/tool/index.htm to help applicants identify the fee category and the fee. All fees should be rounded up to the whole dollar. Payments may be made by check, bank draft, or money order or online with a credit card or wire transfer.

A. Online

You may pay electronically through the government payment website www.pay.gov.

1. From the pay.gov home page, under “Find Public Forms.”

2. Select “search by Agency name.”

3. On the A-Z Index of Forms page, select “E.”

4. Select “Environmental Protection Agency.”

5. From the list of forms, select “Pre-payment of Pesticide Registration Improvement Act Fee.”

6. Complete the form entering the PRIA fee category and fee.

7. Keep a copy of the pay.gov acknowledgement of payment. A copy of the acknowledgement must be printed and attached to the front of the application to assure that EPA can match the application with the payment.

B. By Check or Money Order

All payments must be in United States currency by check, bank draft, or money order drawn to the order of the Environmental Protection Agency. On the check, the applicant must supply in the information line either the registration number of the product or the company number. A copy of the check must accompany the application to the Agency, specifically attached to the front of the application. The copy of the check ensures that payment has been made at the time of application and will enable the Agency to properly connect the payment with the application sent to the Agency.

If you send the Agency a check, it will be converted into an electronic funds transfer (EFT). This means the Agency will copy your check and use the account information on it to electronically debit your account for the amount of the check. The debit from your account will usually occur within 24 hours and will be shown on your regular account statement.

You will not receive your original check back. The Agency will destroy your original check but will keep the copy of it. If the EFT cannot be processed for technical reasons, you authorize the Agency to process the copy in place of your original check. If the EFT cannot be completed because of insufficient funds, the Agency may try to make the transfer up to two times.

All paper-based payments should be sent to the following address:

1. By U.S. Postal Service. U.S. Environmental Protection Agency, Washington Finance Center, FIFRA Service Fees, P.O. Box 979074, St. Louis, MO 63197-9000.

2. By courier or personal delivery. U.S. Bank, Government Lockbox 979074, 1005 Convention Plaza, SL-MO-C2-GL, St. Louis, MO 63197, (314) 418-4990.

VI. How to Submit Applications

Submissions to the Agency should be made at the address given in Unit VII. The applicant should attach documentation that the fee has been paid which may be pay.gov payment acknowledgement or a copy of the check. If the applicant is applying for a fee waiver, the applicant should provide sufficient documentation as described in FIFRA section 33(b)(7) and http://www.epa.gov/pesticides/fees/questions/waivers.htm. The fee waiver request should be easy to identify and separate from the rest of the application and submitted with documentation that at least 25% of the fee has been paid.

If evidence of fee payment (electronic acknowledgement or copy of check properly identified as to company) is not submitted with the application, EPA will reject the application and will not process it further.

After EPA receives an application and payment, EPA performs a screen on the application to determine that the category is correct and that the proper fee amount has been paid. If either is incorrect, EPA will notify the applicant and require payment of any additional amount due. A refund will be provided in case of an overpayment. EPA will not process the application further until the proper fee has been paid for the category of application or a request for a fee waiver accompanies the application and the appropriate portion of the fee has been paid.

EPA will assign a unique identification number to each covered application for which payment has been made. EPA notifies the applicant of the unique identification number. This information is sent by e-mail if EPA has either an e-mail address on file or an e-mail address is provided on the application.

VII. Addresses

New covered applications should be identified in the title line with the mail code REGFEE.

1. By USPS mail. Document Processing Desk (REGFEE), Office of Pesticide Programs (7504P), U.S. Environmental Protection Agency, 1200 Pennsylvania Avenue, NW., Washington, DC 20460-0001.

2. By courier. Document Processing Desk (REGFEE), Office of Pesticide Programs, U.S. Environmental Protection Agency, Room S-4400, One Potomac Yard (South Bldg.), 2777 S. Crystal Drive, Arlington, VA 22202-4501.

Couriers and delivery personnel must present a valid picture identification card to gain access to the building. Hours of operation for the Document Processing Desk are 8 a.m. to 4:30 p.m., Monday through Friday, excluding Federal holidays.

List of Subjects

Environmental protection, Administrative practice and procedure, Pesticides.

Dated: July 28, 2008.
Marty Monell,
Acting Director, Office of Pesticide Programs.

[FR Doc. E8-17936 Filed 8-4-08; 8:45 am]

BILLING CODE 6560-50-S